DEPARTMENT OF JUSTICE

Antitrust Division

Notice Pursuant to the National Cooperative Research and Production Act of 1993—IMS Global Learning Consortium, Inc.

Notice is hereby given that, on October 23, 2000, pursuant to Section 6(a) of the National Cooperative Research and Production Act of 1993, 15 U.S.C. 4301 et seq. (“the Act”), IMS Global Learning Consortium, Inc. has filed written notifications simultaneously with the Attorney General and the Federal Trade Commission disclosing changes in its membership status. The notifications were filed for the purpose of extending the Act's provisions limiting the recovery of antitrust plaintiffs to actual damages under specified circumstances. Specifically, Educational Testing Service, Princeton, NJ; Miami-Dade Community College, Miami, FL; Oracle Corporation, Redwood Shores, CA; Sun Microsystems, Inc., Palo Alto CA; University of Michigan-Ann Arbor, Ann Arbor, MI; eduprise Inc., Morrisville, NC; Microsoft Corporation, Redmond, WA; Apple Computer, Inc., Cupertino, CA; Macromedia, Redwood City, CA; MindLever.com, Raleigh, NC; SCT Corporation, Malvern, PA; unext.com, Deerfield, IL; WebCT, Peabody, MA; Cisco Systems, Inc., San Jose, CA; University of Maryland, Adelphi, MD; Blackboard, Inc., Washington, DC; Department of Education-Training and Youth Affairs (Australia)—University of New England, Armidale, New South Wales, AUSTRALIA; click2learn.com, Inc., Bellevue, WA; and Training Server, Baltimore, MD have been added as parties to this venture.

No other changes have been made in either the membership or planned activity of the group research project. Membership in this group research project remains open, and IMS Global Learning Consortium, Inc., intends to file additional written notification disclosing all changes in membership.

On April 7, 2000, IMS Global Learning Consortium, Inc. filed its original notification pursuant to Section 6(a) of the Act. The Department of Justice published a notice in the Federal Register pursuant to Section 6(b) of the Act on September 13, 2000 (65 FR 55283).

The last notification was filed with the Department on July 21, 2000. A notice was published in the Federal Register pursuant to Section 6(b) of the Act on September 13, 2000 (65 FR 55283).

Constance K. Robinson,
Director of Operations, Antitrust Division.

[FR Doc. 00-29545 Filed 11-17-00; 8:45 am]

BILLING CODE 4410-11-M